DEPARTMENT OF COMMERCE

Foreign-Trade Zones Board

[Order No. 1569]

Grant of Authority for Subzone Status

In Mocean Group, LLC

(Swimwear/Beach Accessories Distribution)

North Brunswick, New Jersey

Pursuant to its authority under the Foreign-Trade Zones Act of June 18, 1934, as amended (19 U.S.C. 81a-81u), the Foreign-Trade Zones Board (the Board) adopts the following Order:

WHEREAS, the Foreign-Trade Zones Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

WHEREAS, the Board’s regulations (15 CFR Part 400) provide for the establishment of special-purpose subzones when existing zone facilities cannot serve the specific use involved, and when the activity results in a significant public benefit and is in the public interest;

WHEREAS, the Port Authority of New York and New Jersey, grantee of Foreign-Trade Zone 49, has made application for authority to establish special-purpose subzone status at the swimwear and beach accessories distribution facility of In Mocean Group, LLC, in North Brunswick, New Jersey (Docket 45-2007, filed 8/31/2007);

WHEREAS, notice inviting public comment was given in the Federal Register (72 FR 51780, 9/11/2007); and,

WHEREAS, the Board adopts the findings and recommendations of the examiner’s report, and finds that the requirements of the FTZ Act and Board’s regulations would be satisfied, and that approval of the application would be in the public interest if approval were subject to a restriction;

NOW, THEREFORE, the Board hereby grants authority for subzone status for activity related to swimwear and beach accessories distribution at the In Mocean Group, LLC, facility located in North Brunswick, New Jersey (Subzone 49K), as described in the application and Federal Register notice, subject to the FTZ Act and the Board’s regulations, including Section 400.28, and further subject to a restriction that all foreign-origin textile and apparel products that are subject to U.S. import quotas will be admitted to the proposed subzone under privileged foreign status (19 CFR §146.41) or domestic (duty-paid) status (19 CFR §146.43).

Signed at Washington, DC, this 5 th day of August 2008.

David M. Spooner,
Assistant Secretary of Commerce for Import Administration
.
Alternate Chairman.
Foreign-Trade Zones Board.
ATTEST:
Andrew McGilvray,
Executive Secretary.

[FR Doc. E8-19321 Filed 8-19-08; 8:45 am]

BILLING CODE 3510-DS-S